DEPARTMENT OF HEALTH AND HUMAN SERVICES

Health Resources and Services Administration

Health Center Program; Announcing Period of Performance Extensions With Funding for Health Center Program Award Recipients in Las Vegas, Nevada and Washington, District of Columbia

AGENCY: Health Resources and Services Administration (HRSA), Department of Health and Human Services (HHS).

ACTION: Notice; announcing period of performance extensions.

SUMMARY: Additional grant funds were provided to two Health Center Program award recipients in Las Vegas, Nevada and Washington, District of Columbia with periods of performance ending in fiscal year (FY) 2020 to extend their periods of performance by up to 4 months to ensure the ongoing delivery of services until a new competitive award could be made.

FOR FURTHER INFORMATION CONTACT: Olivia Shockey, Expansion Division Director, Office of Policy and Program Development, Bureau of Primary Health Care, HRSA, at oshockey@hrsa.gov or (301) 594-4300.

SUPPLEMENTARY INFORMATION:

Recipients of the Award: Two award recipients, as listed in Table 1, in Las Vegas, Nevada and Washington, District of Columbia, to ensure that individuals in the service areas receive uninterrupted access to needed health care services.

Amount of Non-Competitive Awards: Two awards for $774,941.

Period of Supplemental Funding: FY 2020.

Assistance Listings (CFDA) Number: 93.224.

Authority: PHS Act (42 U.S.C. 254b).

Justification: HRSA has extended the FY 2020 periods of performance with prorated supplemental grant funds to two award recipients in Las Vegas, Nevada and Washington, District of Columbia for 3 months and 4 months, respectively, until a new award could be made for each service area. Continued funding to the Health Center Program award recipients ensured that individuals in the service areas received uninterrupted access to needed health care services, which enabled HRSA to support consistent health care to beneficiaries, eliminate delays in funding gaps, and demonstrate administrative efficiencies. HRSA awarded $774,941 to the two existing Health Center Program award recipients noted in Table 1.

Table 1—Recipients and Award Amounts
Grant number | Award recipient name | City, state | Extension length | Award amount
H80CS31240 | First Person Care Clinic | Las Vegas, Nevada | 3 months | $196,625
H80CS24175 | Family and Medical Counseling Service, Inc. | Washington, District of Columbia | 4 months | 578,316

Thomas J. Engels,
Administrator.

[FR Doc. 2020-21364 Filed 9-25-20; 8:45 am]

BILLING CODE 4165-16-P